ENVIRONMENTAL PROTECTION AGENCY

40 CFR Part 52

[EPA-R03-OAR-2008-0871; FRL-9188-4]

Approval and Promulgation of Air Quality Implementation Plans; Maryland; Transportation Conformity Regulations; Withdrawal of Proposed Rule

AGENCY: Environmental Protection Agency (EPA).

ACTION: Withdrawal of proposed rule.

SUMMARY: On June 18, 2010 (75 FR 34669), EPA published a proposed rule to approve revisions to the Maryland State Implementation Plan (SIP). The revisions amended Maryland's transportation conformity regulations and general conformity regulations. EPA's approval did not include Maryland's regulation regarding conflict resolution associated with conformity determinations (COMAR 26.11.26.06). EPA has determined that it cannot proceed with approval of these SIP revisions until and unless it also approves Maryland's regulation regarding conflict resolution associated with conformity determinations. Therefore, EPA is withdrawing its proposed rule to approve Maryland's conformity regulations. This withdrawal action is being taken under section 110 of the Clean Air Act.

DATES: The proposed rule published June 18, 2010 (75 FR 34669) is withdrawn as of August 11, 2010.

ADDRESSES: EPA has established docket number EPA-R03-OAR-2008-0871 for this action. The index to the docket is available electronically at http://www.regulations.gov and in hard copy at Air Protection Division, U.S. Environmental Protection Agency, Region III, 1650 Arch Street, Philadelphia, Pennsylvania 19103.

FOR FURTHER INFORMATION CONTACT: Martin Kotsch, (215) 814-3335, or by e-mail at kotsch.martin@epa.gov.

List of Subjects in 40 CFR Part 52

Environmental protection, Air pollution control, Carbon monoxide, Intergovernmental relations, Nitrogen dioxide, Ozone, Particulate matter, Reporting and recordkeeping requirements, Volatile organic compounds.

Dated: August 2, 2010.
W. C. Early,
Acting Regional Administrator, Region III.

[FR Doc. 2010-19804 Filed 8-10-10; 8:45 am]

BILLING CODE 6560-50-P